DEPARTMENT OF AGRICULTURE

Economic Research Service

Notice of Intent To Seek Approval To Collect Information

AGENCY: Economic Research Service, USDA.

ACTION: Notice and request for comments.

SUMMARY: In accordance with the Paperwork Reduction Act of 1995 (Pub. L. 104-13) and Office of Management and Budget (OMB) regulations at 5 CFR 1320 (60 FR 44978, August 29, 1995), this notice announces the Economic Research Service's (ERS) intention to request approval for a new information collection from Food Stamp Program (FSP) officials in State agencies; from officials of the Special Supplementary Nutrition Program for Women, Infants and Children (WIC) in State agencies; from officials of the National School Lunch Program (NSLP) in State Departments of Education; and from NSLP officials in local school food authorities (SFAs). The purpose of the data collection is to obtain information on the program information systems maintained at the State and local level by these programs.

DATES: Written comments on this notice must be received by April 30, 2001 to be assured of consideration.

ADDRESSES: Requests for additional information should be directed to Parke Wilde, Food Assistance and Rural Economy Branch, Food and Rural Economics Division, Economic Research Service, U.S. Department of Agriculture, 1800 M. St., NW., S2092, Washington, DC 20036-5831. For further information contact: Parke Wilde, 202-694-5633. Submit electronic comments to pwilde@ers.usda.gov.

SUPPLEMENTARY INFORMATION: Title: Paperwork Reduction Act Submission (OMB-83-1).

Type of Request: New collection of information.

Abstract: The Economic Research Service (ERS) of the U.S. Department of Agriculture is responsible for conducting studies and evaluations of the Nation's food assistance programs administered by the Food and Nutrition Service (FNS), U.S. Department of Agriculture. In recent years, there has been growing interest in efforts to utilize program administrative data in ways that improve program operations, reduce program fraud, and better inform program officials as to the characteristics of program participants and eligible non-participants. In particular, there is an interest in matching records from multiple food assistance programs in order to verify program eligibility, assess the characteristics of multi-program participants, and estimate the extent to which program participants enroll in all programs for which they are eligible. This project has two objectives: (1) To determine the characteristics of administrative data systems used by food stamps, WIC, and child nutrition programs, and (2) to test the feasibility and accuracy of linking data from different nutrition assistance programs. Currently, there is no comprehensive assessment of system capabilities, data-sharing arrangements, and record-linkage projects for food assistance programs. This information is necessary to better understand the potential use of these systems for analyzing multiple program participation and for improving program operations in such areas as one-stop shopping, adjunctive eligibility determination, program integrity, and reduction of administrative and client burden.

This project will conduct a survey to determine the capabilities of information systems maintaining client records for the food assistance programs. The survey will collect information about system architecture, organization of client records, maintenance of historical records, numbers and types of client identifiers, and data sharing arrangements among programs. The survey will be conducted in 26 States. Interviews will be conducted with program officials in State food stamp agencies and State WIC agencies; with officials in the Child Nutrition branch of State Departments of Education; and with officials in three School Food Authorities within each State. Information from the survey will be used to determine the consistency, across States, of information maintained by each food assistance program and the consistency, within States, of information maintained by different programs. Findings from the survey will be presented in tabular format facilitating comparison across both States and food assistance programs.

Information from the survey of food assistance programs will be used to assess the potential for matching client records across major food assistance programs (FSP, WIC, NSLP) within a State for the purpose of estimating rates of shared clientele. This information will be used to recruit four sites into a second phase of the project. The second phase will test the feasibility and accuracy of linking data from different nutrition assistance programs within a site (defined as either an area served by a single SFA or an entire State, depending on data availability), using data extracts requested from each food assistance program in four sites. Records from the three food assistance programs (FSP, WIC, NSLP) will be matched using client identifiers that are common across programs, and using probabilistic record-matching techniques. The study will report on match rates and the sensitivity of match rates to the number of client identifiers used in the matching process. The study will also report rates of multiple program participation and the characteristics of clients enrolled in multiple programs versus those enrolled in a subset of programs for which they are eligible. All client identifiers will be strictly protected and will not be released in any form. The client identifiers will be used in the record linkage process and subsequently stripped from all files. Results from the linked files will be reported only in summary form.

Estimate of Burden: Public reporting burden for this data collection is estimated to average 45 minutes per respondent. The estimate includes time for listening to instructions, gathering data needed, and responding to questionnaire or interview/discussion items.

Respondents: State FSP officials familiar with the State's information system for the FSP; State WIC officials familiar with the State's information system for the WIC Program; State Department of Education officials familiar with the State's information system for the NSLP; and officials of local school food authorities familiar with the SFA's information system for the NSLP.

Estimated Number of Respondents: 156 in total: 26 State FSP officials, 26 State WIC officials, 26 State Department of Education officials, and 78 officials in local school food authorities.

Estimated Total Annual Burden on Respondents: Total of 117.0 hours. Survey of State FSP Officials: 19.5 hours, Survey of State WIC Officials: 19.5 hours, Survey of State DOE Officials: 19.5 hours, Survey of Local SFA Officials: 58.5 hours.

Copies of the information to be collected can be obtained from Parke Wilde, Food Assistance and Rural Economy Branch, Food and Rural Economics Division, Economic Research Service, U.S. Department of Agriculture, 1800 M. St., NW, S2092, Washington, D.C. 20036-5831, 202-694-5633.

Comments

Comments are invited on: (a) Whether the proposed collection of information is necessary for the proper performance of the functions of the Department, including whether the information will have practical utility; (b) the accuracy of the Agency's estimate of the burden of the proposed collection of information, including the validity of the methodology and assumptions used; (c) ways to enhance the quality, utility, and clarity of the information to be collected; (d) additional uses of data on multiple program participation; (e) ways to minimize the burden of the collection of information on those who are to respond, such as through the use of appropriate automated, electronic, mechanical, or other technological collection techniques or other forms of information technology. Comments should be sent to the address stated in the preamble. All responses to this notice will be considered and included in the request for OMB approval. All comments will also become a matter of public record.

Signed at Washington, D.C, this 24th day of January, 2001.
Betsey Kuhn,
Director, Food and Rural Economics Division.

[FR Doc. 01-4520 Filed 2-22-01; 8:45 am]

BILLING CODE 3410-18-P